DEPARTMENT OF ENERGY

Federal Energy Regulatory Commission

[Project No. 8361-037]

Notice of Application for Amendment of License and Soliciting Comments, Motions to Intervene, and Protests

March 26, 2002.

Take notice that the following application has been filed with the Commission and is available for public inspection:

a. Application Type: Amendment of License.

b. Project No: 8361-037.

c. Date Filed: March 8, 2002.

d. Applicant: Olsen Power Partners.

e. Name of Project: Belleville Hydroelectric Project.

f. Location: The project is located on Old Cow Creek in Shasta County, California.

g. Filed Pursuant to: Federal Power Act, 16 U.S.C. 791(a)—825”) and Section 4.201 of the Commission's regulations.

h. Applicant Contact: Arthur Hagood; Synergics Energy Services, LLC, 191 Main Street, Annapolis, MD 21401; (410) 268-8820.

i. FERC Contact: Any questions on this notice should be addressed to Mr. Thomas LoVullo at (202) 219-1168, or e-mail address: thomas.lovullo@ferc.gov.

j. Deadline for filing comments, motions to intervene and protests: April 26, 2002.

All documents (an original and eight copies) should be filed with: Magalie R. Salas, Secretary, Federal Energy Regulatory Commission, 888 First Street, NE., Washington DC 20426. Please include the project number (P-8361-037) on any comments or motions filed.

k. Description of Request: Olsen Power Partners (licensee) proposes to study, over a five-year period, the minimum flow released into the project's bypass reach and its effect on fishery resources. The current license requirement states that the licensee shall discharge from the project diversion, a continuous minimum flow of 30 cubic feet per second (cfs), or inflow to the project, whichever is less, for the protection of fish and wildlife resources in Old Cow Creek. The licensee stated that it believes the required minimum flow is set too high exceeding any necessary protection for the fishery and needlessly constraining generation. The licensee would like to reduce the minimum flow from 16 cfs during the first year of the study to 10 cfs for the next two years, followed by 5 cfs for the last two years of the study. The licensee indicated that at any time during the five year study, if and when impacts are detected, the continuation of the testing would be re-evaluated and a long term release flow recommendation developed.

l. Locations of the Application: A copy of the application is available for inspection and reproduction at the Commission's Public Reference Room, located at 888 First Street, NE., Room 2A, Washington, DC 20426, or by calling (202) 208-1371. This filing may also be viewed on the web at http://www.ferc.gov using the “RIMS” link, select “Docket#” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's web site at http://www.ferc.gov under the “e-Filing” link.

Magalie R. Salas,
Secretary.

[FR Doc. 02-7749 Filed 3-29-02; 8:45 am]

BILLING CODE 6717-01-P